DEPARTMENT OF THE INTERIOR

Bureau of Land Management

[LLMT924000/L14300000.FR0000; SDM 98838]

Notice of Application for Disclaimer of Interest; Pennington County, South Dakota

AGENCY: Bureau of Land Management, Interior.

ACTION: Notice.

SUMMARY: An application has been filed with the Bureau of Land Management (BLM) by Larin Roozenboom and Laura Roozenboom (hereafter “the applicants”), for a recordable Disclaimer of Interest from the United States. This notice is intended to inform the public of the pending application.

DATES: Comments must be received on or before September 27, 2011.

ADDRESSES: Address all written comments to Cynthia Staszak, Chief, Branch of Land Resources, BLM Montana State Office, 5001 Southgate Drive, Billings, MT 59101-4669. Only written comments will be accepted. Refer to serial No. SDM 98838.

FOR FURTHER INFORMATION CONTACT: Tami Lorenz, BLM Montana State Office, 5001 Southgate Drive, Billings, MT 59101-4669; 406-896-5053. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Pursuant to Section 315 of the Federal Land Policy and Management Act of 1976, as amended (43 U.S.C. 1745), and the regulations contained in 43 CFR Part 1864, a recordable disclaimer, if issued, will confirm that the United States has no valid interest. The recordable Disclaimer of Interest application is for the surface and subsurface estate in the following described land:

Black Hills Meridian

T. 2 N., R. 6 E.,

Sec. 7, SE¼SE¼.

The parcel located within the above described land contains 6.50 acres in Pennington County.

The SE¼SE¼ of sec. 7 is divided by a county boundary line which separates Meade County and Pennington County. The line runs east to west along the north side of the southern section line. There are approximately 6.50 acres between the county boundary and the south section line. The Federal surface and subsurface estate to be disclaimed lies within the Black Hills National Forest.

Public Sale Patent No. 3863 dated June 1, 1898, conveyed T. 2 N., R. 6 E., Black Hills Meridian sec. 7, SE¼SE¼, containing 40 acres, out of Federal ownership. Subsequent land transactions occurred between 1898 and October 16, 1900, when the same legal description was deeded back to the United States through Warranty Deed (WD) from Price & Baker Company. The legal description was correct, but erroneously cited only Meade County. The document was only recorded in Meade County.

Pennington County's records, therefore, showed a tax delinquency, so the County sold the 6.50 acres in a tax sale on June 25, 1943, to L.A. Eberlein, the applicants' predecessor in interest. The cloud on the applicants' title was the initial error of not recording the document conveying ownership back to the United States in Pennington County, and Pennington County's subsequent error of selling the 6.50 acres for non-payment of taxes.

All persons who wish to present comments, suggestions, or objections in connection with the proposed disclaimer may do so by writing to the undersigned authorized officer at the above address. Before including your address, phone number, e-mail address, or other personal identifying information in your comment, you should be aware that your entire comment—including your personal identifying information—may be made publicly available at any time. While you can ask us in your comment to withhold your personal identifying information from public review, we cannot guarantee that we will be able to do so.

Authority: 43 CFR 1864.2.

Cynthia Staszak,
Chief, Branch of Land Resources.

[FR Doc. 2011-16348 Filed 6-28-11; 8:45 am]

BILLING CODE 4310-DN-P